DEPARTMENT OF THE INTERIOR

National Park Service

60-Day Notice of Intention to Request Clearance of Collection of Information; Opportunity for Public Comment

AGENCY: Department of the Interior, National Park Service.

ACTION: Notice and request for comments.

SUMMARY: Under the provisions of the Paperwork Reduction Act of 1995 and 5 CFR Part 1320, Reporting and Record Keeping Requirements, the National Park Service (NPS) invites public comments on a proposed extension of a currently approved collection of information (OMB #1024-0144).

DATES: Public comments on this Information Collection Request (ICR) will be accepted on or before May 8, 2009.

ADDRESSES: Send comments to: Sherry Hutt, Manager, National NAGPRA Program, National Park Service, 1201 Eye Street NW, 8th floor, Washington, DC 20005; or via fax at 202/354-5179; or via e-mail at Sherry_Hutt@nps.gov. Also, you may send comments to Leonard E. Stowe, NPS Information Collection Clearance Officer, 1849 C St., NW., (2605), Washington, DC 20240; or via e-mail at Leonard_Stowe@nps.gov. All responses to this notice will be summarized and included in the request for the Office of Management and Budget (OMB) approval. All comments will become a matter of public record.

FOR FURTHER INFORMATION CONTACT: Sherry Hutt, Manager, National NAGPRA Program, National Park Service, 1201 Eye Street NW, 8th floor, Washington, DC 20005; or via phone at 202/354-1479; or via fax at 202/354-5179; or via e-mail at Sherry_Hutt@nps.gov. You are entitled to a copy of the entire ICR package free of charge.

SUPPLEMENTARY INFORMATION: Title: Native American Graves Protection and Repatriation Regulations, 43 CFR Part 10.

Bureau Form Number: None.

OMB Control Number: 1024-0144.

Current Expiration Date: August 31, 2009.

Type of Request: Extension of a currently approved collection of information that was reinstated in February 2009 based on an emergency submission to OMB.

Description of Need: The Native American Graves Protection and Repatriation Act (NAGPRA), requires museums to compile certain information (summaries, inventories, and notices) regarding Native American cultural items in their possession or control and provide that information to lineal descendants, culturally affiliated Indian tribes and Native Hawaiian organizations, and the National Park Service (acting on behalf of the Secretary of the Interior).

Description of respondents: Museums, defined in NAGPRA as any institution that receives Federal funds and has possession of or control over Native American cultural items.

Estimated average number of respondents: To date, 1,202 museums have completed summaries, inventories, or notices. NPS estimates about 50 new submissions or revision of previous submissions each year.

Estimated average burden hours per response: Public reporting burden for this collection of information is expected to average 100 hours for the exchange of summary/inventory information between a museum or Federal agency and an Indian tribe or Native Hawaiian organization and six hours per response for the notification to the Secretary, including time for reviewing instructions, searching existing data sources, gathering and maintaining the data needed, and completing and reviewing the collected information.

Frequency of Response: Information collection requirements are done on an as-needed basis, with summaries due within six months of either receipt of a new collection or acknowledgement of a new Indian tribe, and inventories due within two years of either receipt of a new collection or acknowledgement of a new Indian tribe. An institution receiving Federal funds for the first time must provide a summary within three years and an inventory within five years.

Estimated total annual reporting burden: 5,224 hours.

Comments are invited on: (1) the practical utility of the information being gathered; (2) the accuracy of the burden hour estimate; (3) ways to enhance the quality, utility, and clarity of the information to be collected; and (4) ways to minimize the burden hour to respondents, including use of automated information techniques or other forms of information technology.

Dated: March 3, 2009
Leonard E. Stowe,
NPS, Information Collection Clearance Officer.

[FR Doc. E9-4841 Filed 3-6-09; 8:45 am]

BILLING CODE 4312-50-S